DEPARTMENT OF JUSTICE

Notice of Lodging Proposed Consent Decree

In accordance with Departmental Policy, 28 CFR 50.7, notice is hereby given that a proposed Consent Decree in United States of America v. George H. Johnson, et al., No. 2:05-cv-3579-PHX (D. Ariz.), was lodged with the United States District Court for the District of Arizona, Phoenix Division, on October 7, 2008.

The proposed Consent Decree concerns an amended complaint filed on December 28, 2006 against George H. Johnson, Johnson International, Inc., General Hunt Properties, Inc., and 3-F Contracting, Inc. for alleged violations of Section 301(a) of the Clean Water Act (“CWA”), 33 U.S.C. 1311(a). The proposed Consent Decree resolves all allegations against the defendants for discharging and/or causing to be discharged dredged or fill material into waters of the United States, namely, the Santa Cruz River and its tributaries, including the Los Robles Wash, at various sites commonly known as the King Ranch and La Osa Ranch located in Pinal County, Arizona, without a permit issued by the United States Army Corps of Engineers.

The Department of Justice will accept written comments relating to this proposed Consent Decree for thirty (30) days from the date of publication of this Notice. Please address comments to Rochelle L. Russell, Trial Attorney, Environmental Defense Section, P.O. Box 23986, Washington, DC 20026, and refer to United States v. Johnson, DJ # 90-5-1-1-17469.

The proposed Consent Decree may be examined at the Clerk's Office, United States District Court for the District of Arizona, Phoenix Division. In addition, the proposed Consent Decree may be viewed at http://www.usdoj.gov/enrd/Consent_Decrees.html.

Stephen L. Samuels,
Assistant Section Chief, Environmental Defense Section, Environment & Natural Resources Division.

[FR Doc. E8-24234 Filed 10-10-08; 8:45 am]

BILLING CODE 4410-CW-P